OFFICE OF PERSONNEL MANAGEMENT

President's Commission on White House Fellowships Advisory Committee: Closed Meeting

AGENCY: President's Commission on White House Fellowships, U.S. Office of Personnel Management.

ACTION: Notice of meeting.

SUMMARY: The President's Commission on White House Fellowships (PCWHF) was established by an Executive Order in 1964. The PCWHF is an advisory committee composed of Special Government Employees appointed by the President. The Advisory Committee will meet in June to interview potential candidates for recommendation to become a White House Fellow.

The meeting is closed.

Name of Committee: President's Commission on White House Fellowships Mid-Year Meeting.

Date: January 26, 2015.

Time: 8:00 a.m.-5:30 p.m.

Place: TBD.

Agenda: The Commission will talk to current Fellows on how their placements are going and discuss progress on strategic goals and recruiting efforts.

Location: TBD.

FOR FURTHER INFORMATION CONTACT: Jennifer Y. Kaplan, 712 Jackson Place NW., Washington, DC 20503, and Phone: 202-395-4522.

President's Commission on White House Fellowships.
Jennifer Y. Kaplan,
Director.

[FR Doc. 2014-29556 Filed 12-16-14; 8:45 am]

BILLING CODE 6325-44-P